DEPARTMENT OF LABOR

Office of Disability Employment Policy

[SGA 07-05]

National Technical Assistance and Research Center To Promote Leadership for Employment and Economic Independence for Adults With Disabilities; Solicitation for Cooperative Agreement

Announcement Type: New Notice of Availability of Funds and Solicitation for Grant Application (SGA) for Cooperative Agreement.

Funding Opportunity Number: SGA 07-05.

Catalogue of Federal Domestic Assistance (CFDA) Number: 17.720.

DATES: Applications must be received by August 20, 2007.

Executive Summary: The U.S. Department of Labor (“DOL” or “Department”), Office of Disability Employment Policy (“ODEP”), announces the availability of up to $2.35 million to fund a cooperative agreement to establish a National Technical Assistance and Research Center to Promote Leadership for Increasing Employment and Economic Independence for Adults with Disabilities with a 24-month period of performance. In addition, this initiative may be funded for up to three (3) additional option years depending on performance, identified need, and the availability of future funding.

This National Technical Assistance and Research Center will focus on building leadership capacity at the Federal, State, and local levels to increase employment and economic self-sufficiency for adults with disabilities. ODEP is also funding a technical assistance and research center focusing on youth with disabilities through a separate competition.

Seventeen years after enactment of the Americans with Disabilities Act (ADA), there is no barrier more challenging to the realization of the American dream for citizens with disabilities than unemployment and its resulting poverty, which precludes meaningful community participation. Multiple demonstrations have documented that people with barriers to employment resulting from a disability can become successfully employed with appropriate supports and the customization of employment responsibilities. With Federal investment of millions of dollars into such research and demonstrations, valuable data and successful practices have emerged. But their findings are not widely disseminated or utilized, and their impact on policy and practice within states is too often not evident.

In recognition of this fact, over the last decade, the Federal Government has taken proactive steps to increase employment and otherwise resolve barriers to employment for adults with disabilities. Multiple Executive Orders have been issued focusing on employment and disability (such as Executive Order 13078: Increasing Employment of Adults With Disabilities, 1998), and on increasing the opportunity for individuals with disabilities to become qualified Federal employees (Executive Order 13163, Increasing the Opportunity for Individuals With Disabilities To Be Employed in the Federal Government, 2000).

The Federal Government has also required Federal agencies to establish procedures providing reasonable accommodation of work-related disabilities (Executive Order 13164, Requiring Federal Agencies To Establish Procedures To Facilitate the Provision of Reasonable Accommodation, 2000) and to increase community-based alternatives for individuals with disabilities (Executive Order 13217, Community-Based Alternatives for Individuals With Disabilities, 2001). These Executive Orders are in addition to laws prohibiting discrimination in employment under Section 504 of the Rehabilitation Act of 1973 and Title I of the ADA. Further, the New Freedom Initiative, established in 2001 by President George W. Bush, brought heightened focus to and action in disability policy throughout the Federal sector across numerous areas, including employment.

Yet despite these multiple efforts, employment outcomes for adults with disabilities are still far below that of the general adult population. The U.S. Census Bureau's American Community Survey in 2005 estimated that among the more than 21 million people with disabilities aged 16-64, only 8.5 million, or 37.5 percent, were employed (http://www.disabilitystatistics.org, downloaded 5/15/07). Of the people with disabilities employed aged 16-64, 49.9 percent of men with disabilities are employed as opposed to 80.9 percent of working-age men without a disability. For women of working age, 34.2 percent of women with disabilities are employed, compared with 68.3 percent of women without disabilities. Not surprisingly, the poverty rate among people with disabilities from 16 to 64 years old was 24.6 percent, almost triple the rate for those without disabilities (9.3 percent).

Effectively addressing the complex and significant barriers to employment and economic self-sufficiency faced by adults with disabilities requires the use of multiple strategies and the active involvement of many stakeholders, including Federal, State and local governments, non-governmental organizations, financial institutions, consumers, and employers. To address this situation, ODEP is funding a national technical assistance and research center (the Center) to build capacity within and across both generic and disability-specific service-delivery systems to provide transformational leadership in service to adults with disabilities, and thus increase their employment and economic self-sufficiency.

The Center will conduct research, develop and disseminate information, and provide technical assistance and training in five targeted goal areas defined in this solicitation. These goal areas have been identified through six years of ODEP research as critical leadership areas for improving systems capacity to effectively serve adults with disabilities and increase their employment and economic self-sufficiency. These targeted goal areas include the following:

1. Increasing partnership and collaboration among and across generic and disability-specific systems that provide employment or employment-support services. This partnership and collaboration should produce more effective and efficient services through leveraging resources and funding across multiple systems.

2. Increasing use of self-direction in service and integration of funding among and across cross-generic and disability-specific systems, including the blending and braiding of resources and funding across systems and programs, and the use of self-directed accounts providing choice and control to the individual job seeker.

3. Increasing economic self-sufficiency through leveraging relevant generic and disability-specific tax incentives, financial education, social security work incentives, benefits planning, and other strategies for enhancing profitable employment resulting in the ability of people with disabilities to accrue assets and resources through employment.

4. Increasing the use of universal design as the framework for the organization of employment policy and the implementation of employment services.

5. Increasing the use of customized and other forms of flexible work options for individuals with disabilities and others with complex barriers to employment.

In addition, the Center will provide rapid response on request to ODEP in areas related to employment and disability, and otherwise support ODEP as requested in its efforts to develop policy recommendations for increasing employment and economic self-sufficiency for adults with disabilities.

In meeting each goal area, applicants must provide information on strategies they will undertake for advancing knowledge development and utilization, including describing specific research and technical assistance and training activities. In addition, applicants must describe how they will effectively disseminate policy knowledge, research findings, and successful practices through and within various networks of State and local systems' personnel, particularly leadership personnel, and other relevant stakeholder communities (including, but not limited to consumers, employers, and providers of employment and asset development services). They should also describe how they will encourage and monitor the translation and utilization of such knowledge, research, and successful practices.

I. Funding Opportunity Description

1. Description and Purpose

ODEP will award one cooperative agreement to establish a national technical assistance and research center for increasing employment and economic independence for adults with disabilities. The overall purpose of this effort is to build leadership and partnership across workforce development, economic development, and relevant partner agencies and systems, including generic and disability-specific agencies and systems, so that they work together strategically and effectively to increase employment outcomes and economic self-sufficiency for adults with disabilities. The Center will: Conduct research to identify, validate, document, and otherwise promote effective practices and policies in targeted goal areas; develop and disseminate information; provide technical assistance; encourage collaboration and partnership across State and local generic and disability-specific systems and programs, both public and private; and work with States and localities on multiple strategies in targeted goal areas for improving employment outcomes and economic self-sufficiency for adults with disabilities. Activities of the Center must be based on the assumptions that: people with disabilities have the ability to make and implement decisions (with support as appropriate) about their own work life, and that they have the ability to mobilize and develop resources (with support as necessary) to move from poverty and dependency to independence and productivity through employment. They must also be based on the assumption that there is a need for multiple generic and disability-specific systems and services to effectively partner across traditional boundaries. In accomplishing these goals, the Center will provide transformational leadership for translating innovation and emerging successful solutions from isolated demonstrations to systemic practices, and will act as a voice for elevating the discussion about employment and disability nationally.

The Center's research-related activities will improve systems capacity to provide leadership for increasing employment and economic self-sufficiency at the State and local level in targeted goal areas, and must include the development of policy-related recommendations for consideration across agencies and systems. It must include, but is not limited to, the following activities:

• Implementing research, demonstration activities, and otherwise developing evidence (either through qualitative and quantitative methods, as appropriate) in targeted goal areas for effective models and approaches to increasing employment and economic self-sufficiency for adults with disabilities;

• Promoting and documenting the impact of actions of key leadership personnel at the State and local levels across public and private systems and agencies utilizing employment approaches in targeted goal areas in select states;

• Conducting an analysis of the interaction between and among various strategies and approaches in targeted goal areas as they exist in public policy, both nationally and in select states; and

• Developing evidence across public and private systems and agencies of effective leadership strategies in targeted goal areas.

The Center's technical assistance and dissemination activities must include, but are not limited to, the following:

• Developing evidence-based information and materials (including multi-media materials, curricula, and other relevant accessible products) in targeted goal areas for use in increasing leadership capacity for advancing employment and economic self-sufficiency for adults with disabilities;

• Preparing and disseminating appropriate reports and documents related to targeted goal areas in publications including, but not limited to, peer-reviewed journals;

• Providing intensive technical assistance, training, and information in targeted goal areas to ODEP's grantees including documenting the impact of such actions;

• Providing information to educate relevant stakeholders, including State and local policymakers, systems personnel, key leadership personnel, educators, and other relevant individuals and groups about changes in policy and practice needed in order to increase employment and economic self-sufficiency for adults with disabilities, and the evidence supporting action in targeted goal areas under this solicitation;

• Providing technical assistance, training, and information to increase understanding and utilization by relevant workforce systems and agencies of strategies developed in targeted goal areas;

• Serving as a repository and dissemination center for materials and effective practices developed by current and former ODEP grantees; and

• Creating and maintaining a user-friendly Web site with relevant information and documents in a form that meets a government or industry-recognized standard for accessibility.

The Center's collaboration and partnership activities must include, but are not limited to:

• Developing evidence on strategies for, and results of, effective interagency partnership and collaboration between and among Federal, State, and local systems and agencies, both generic and disability-specific, that effectively leverage and maximize available resources in ways that provide choice, control and self-direction to individual job seekers; and

• Developing, maintaining, and documenting relationships that result in partnerships and collaborations to foster employment and economic self-sufficiency for adults with disabilities. Partners may include but are not limited to the following entities:

(1) State departments and agencies across generic and disability-specific systems such as departments of Labor, Economic Development, Vocational Rehabilitation, Veterans Affairs, Mental Health, Medicaid, Mental Retardation/Developmental Disabilities, Education, and Temporary Assistance for Needy Families (TANF); and Governors' Committees on Employment of People with Disabilities and Developmental Disability Councils;

(2) Local Work Investment Act (WIA) service providers, employment service providers, local One-Stop Career Centers and the Veterans Employment and Training Service; State and local financial services entities; social security benefits planning and assistance programs; community and faith-based organizations and disability organizations; community colleges and other training entities; and providers of employment-related supports, including public housing and transportation authorities;

(3) Employers and their professional networks;

(4) Federal agencies including the Departments of Labor, Health and Human Services, Commerce, Housing and Urban Development, Treasury, Transportation, Education, and Veterans' Affairs; the Small Business Administration and Social Security Administration; and other generic and disability-specific agencies that work in areas related to improving employment and economic self-sufficiency for adults with disabilities and others with complex barriers to employment; and

(5) ODEP-sponsored and other Federal technical assistance projects that provide information about, or work in areas related to, employment (including self employment), economic development, and/or enhancing employment profitability through use of relevant tax incentives, financial literacy, work incentives, benefits assistance and related areas).

Additionally, the Center will work with ODEP to implement on-site, intensive, targeted technical assistance and research in two pilot states or economic development regions. The pilot project will be competitively selected by the third quarter of year 1 of Center activities. Staff and expert consultant time and project resources dedicated to provide technical assistance, research, and training support to the competitively selected states or regions will be negotiated with ODEP as part of the Cooperative Agreement within thirty (30) days of the date of the award in year 1. However, it is expected that a minimum of $600,000 is to be spent on the above component of the work plan. Year 1 activities will include the development of targeted technical assistance materials, a work plan (to be approved by ODEP) for this component of Center activities, and design and implementation of a competitive selection process for the states or economic development regions. Intensive, on-site, targeted activities will begin immediately with the competitively selected states or regions no later than the first quarter of year 2 of Center activities, and will focus on implementation of goal areas defined in this SGA throughout the states or economic development regions. Additional funding for this activity will be dedicated to this component of Center activities during years 3-5 pending ODEP's exercise of the option periods provided herein, and the availability of funds and adequacy of performance.

The remainder of the funding that is provided is to be spent on carrying out the general technical assistance, research, and training functions in targeted goal areas described previously.

2. Background

The Office of Disability Employment Policy (ODEP) provides national leadership by developing and influencing disability-related employment policy and practice. A five-year strategic plan guides ODEP in achieving its mission by identifying long-term strategic and outcome goals as well as short-term intermediate and performance goals. In addition to measuring agency performance, as required by the Government Performance and Results Act (GPRA), the strategic plan sets forth a road map for prioritizing the formulation and dissemination of innovative employment policies and practices to service-delivery systems and employers.

ODEP's annual goal is to build knowledge and advance disability employment policy that affects and promotes systems change. The agency's long- and short-term goals focus efforts on initiatives that bring about this level of change. In short, ODEP develops policies and strategies that will:

• Enhance the capacity of service-delivery systems to provide appropriate and effective services and supports to youth and adults with disabilities;

• Increase planning and coordination within service-delivery systems to develop and improve systems, processes, and services;

• Improve individualization of services to better assist youth and adults with disabilities in seeking, obtaining, and retaining employment or self-employment;

• Increase employer access to supports and services to meet their employment needs;

• Increase the quality of competency-based training for service-delivery systems;

• Increase the adoption of universal strategies for service provision; and

• Develop partnerships with and among critical stakeholders to effectively leverage available resources, and facilitate implementation of practices and policies that increase employment and self-employment opportunities as well as the recruitment, retention, and promotion of adults with disabilities.

Three measures inform ODEP of its annual progress in meeting its three goals under the Government Performance and Results Act: (1) The number of policy-related documents; (2) the number of formal agreements; and (3) the number of effective practices. These performance results support achievement of the following intermediate outcome goals: accessible employment resources; coordinated programs, processes, and services; and adoption of effective practices.

Achievement of these intermediate outcome goals, in turn, supports achievement of the long-term service-delivery systems outcome goals, which are marked by increases in these areas: Capacity of service-delivery systems; planning and coordination within service-delivery systems; and employer access to supports and services for recruitment, retention, and promotion of adults with disabilities.

On February 1, 2001, in announcing the New Freedom Initiative (NFI), President George W. Bush explicitly recognized that in today's global economy, America must be able to draw on the talents and creativity of all its citizens, and that people with disabilities represent valuable, largely untapped human capital. The NFI represents an important step towards ensuring that all Americans have the opportunity to learn and develop skills, engage in productive work, choose where to live, and participate in community life.

The timeliness of the proposed effort to provide and promote leadership for employment and economic independence for adults with disabilities is reinforced by the demographic workforce issues that led to the New Freedom Initiative and the continuing challenges faced by workforce systems. Potential and current workers with disabilities fall within all of the following demographic groups: Returning veterans, mature workers, baby boomers, Generations X and Y, people with limited English proficiency, the chronically homeless, and migrants. In addition, the decline in the number of workers due to the potential retirement of millions of baby boomers; the desires and needs of millions of other baby boomers who choose to stay in the workforce, but on their own terms; the demands of Generation X and Y workers who expect companies to offer flexible work options; the complex needs of veterans with service-connected injuries; the poverty levels, lack of education, and skills' competencies of many people with limited English proficiency; migrant workers lacking higher-level skills, to name some of the key demographic issues, compel companies to retool their recruitment and retention strategies, and demand workforce systems to provide leadership to meet these needs.

Related to these issues is the fact that from 2001 through 2006 ODEP implemented several research initiatives to develop and document innovative and universal approaches to improving employment outcomes for adults with disabilities. In these ODEP initiatives, a total of 26 Customized Employment and Workforce Action (Olmstead) grantees were funded for periods of time ranging from three to five years. Central to the assumptions guiding the creation of these grants was the recognition of the importance of flexibility in the way work is organized and performed, the importance of partnership between and among generic and disability-specific systems, the use of mechanisms to promote self-direction and economic self-sufficiency, and the universality and applicability of many of the successful approaches being tested with other populations of people with barriers to employment.

Importantly, these projects were charged with operating as part of the workforce system and developing while demonstrating not only that certain system change is beneficial to outcomes achieved—but that such changes impact how services are organized and provided in a way that is often universal for other workforce customers. The lead service system for the initiatives was the One-Stop Career Centers operated under the Workforce Investment Act (WIA). Overall, these projects were expected to: increase the capacity of service-delivery systems to effectively serve people with disabilities and other “hard-to-serve” populations; increase planning and coordination within and across service-delivery systems within the state, including generic as well as disability-specific systems; increase employment outcomes through the use of customized strategies for achieving employment; and develop policy recommendations with broad applicability based on the demonstrated evidence gathered through implementation of grant activities. Additional information about these grant initiatives can be found on ODEP's Web site: http://www.dol.gov/odep/categories/workforce/.

Several key findings resulting from these research initiatives include the pivotal importance of the following in promoting positive systems change that results in increased employment and economic self-sufficiency for adults with disabilities:

• Partnership and Collaboration: Collaboration and partnership development was the primary innovation and the foundation of all other systems change efforts across both initiatives. Whether considering policy, resource allocation, or service integration, effective partnerships and collaborative efforts were at the base of every best practice. Collaborative efforts hinged on attaining a shared understanding between and among systems, and the translation of the partnership relationship into written, measurable goals that positively affected each system and its customers.

• Universal Design: The importance of universal design and the use of universal strategies in serving job seekers with disabilities emerged as pivotal for improving access to the programs and services of the workforce development system. Universal design within the workforce development system refers to the design of environments, products, and communication practices as well as the delivery of programs, services, and activities that meet the needs of all customers of the system. ODEP's research documented that One-Stops are incorporating elements of universal design in the way they organize and deliver their services, organize their physical space, and develop the culture of their environments. This universal design incorporation includes addressing disability within the broader concept of diversity and viewing it as one facet of a more sweeping mandate to ensure access to workforce development services for all customers.

• Leveraging Resources: Another central finding of ODEP's research was that over time, collaboration with all types of organizations and agencies increased and resulted in opportunities for leveraging expertise and resources. No single partner or source of funds could adequately respond to the potential spectrum of needs of job seekers with complex barriers to employment, including disability. Leveraging resources was facilitated at both the systems and individual level, and the blending or braiding of funds across systems became instrumental in the ability of grantees to support a range of job seekers, maximize their own resources, and share the scope of what it takes to effectively provide workforce development services.

Additional findings identified the importance of leveraging various existing tax incentives, financial education, work incentives, and other strategies in order to maximize financial advantage and otherwise enhance profitable employment resulting from work for people with disabilities. Such individuals are no different than any other citizen in their desire to work and advance their economic status. Yet many public policies create barriers to work and economic self-sufficiency for people with disabilities by limiting their ability to accrue assets and maintain critical disability benefits. Numerous work incentives and other strategies exist to assist with maximizing the economic benefits of work for people with disabilities, but these remain underutilized. Developing models of partnership among disability and community-based organizations, One-Stop Career Centers, and local tax and financial institutions will ultimately assist workers with disabilities access to mainstream services, promote their self-determination and economic self-sufficiency, and otherwise enable their employment to positively impact their ability to fully participate in their communities. As the workforce development system continues to increase participation of individuals with disabilities in the labor force, development of models utilizing multiple tax incentives and other strategies that enable people with disabilities to maximize the financial advantage of work are critical. This area holds great promise for assisting people to permanently move off welfare and Social Security benefits, out of poverty, and into the economic mainstream through employment.

Finally, a critical finding across these grant initiatives was the importance of key leadership personnel for promoting positive change at the State and local level across both public and private systems and programs. Understanding and “buy-in” on the part of key leaders was found to be essential to the success of long-term, effective, systemic change (Customized Employment: Employers and Workers Creating a Competitive Edge. Summary Report of Customized Employment and Workforce Action Grants. Boston: Institute for Community Inclusion/UCED. University of Massachusetts at Boston, 2007 in press).

The impending changes in the workforce make it imperative for our nation to address the significant rate at which adults with disabilities continue to be out of the work force. Isolated demonstrations of success must be translated into broader replication and adoption at the State and local level. The mainstream infrastructure of our states and communities, both generic and disability-specific, must fashion new ways of working in partnership. The research and technical assistance effort proposed herein will support this effort by increasing leadership capacity in five targeted goal areas identified in this solicitation that have been validated through prior research as pivotal in creating positive change for people with disabilities. In addition, this effort will expand the knowledge-base of existing effective practices for increasing employment and economic self-sufficiency for adults with disabilities by intensively targeting technical assistance for implementation of identified successful practices in a number of states, and by providing proactive support, training, and dissemination of other relevant useful information nationally.

The technical assistance to be provided will build upon ODEP's prior research and technical assistance efforts which focused on promoting increased understanding that:

• Increasing employment and economic self-sufficiency for adults with disabilities requires meaningful partnerships across generic and disability-specific systems in both the public and private sector;

• The use of universal design as a framework for organization and implementation of services benefits, not just people with disabilities, but other job seekers with complex barriers to employment;

• Leveraging resources across generic and disability-specific systems can enable the work force system to more effectively respond to the varying needs of job seekers with disabilities and maximize their own systems resources;

• The use of customized employment strategies and other forms of flexible work options can result in integrated, competitive employment for individuals with disabilities and others with complex barriers to employment; and

• Economic self-sufficiency for workers with disabilities is created not by the earning of wages alone, but by leveraging existing tax incentives, financial education, work incentives, and other strategies including, but not limited to, tax incentives for individuals and business, work incentives under Social Security, and matched savings accounts.

3. Definitions

Definitions for purposes of this solicitation include:

• Universal Design: Universal Design is defined as the design of environments, products, and communication practices, as well as the delivery of programs, services, and activities, to meet the needs of all customers of the work force development system.

• Customized Employment: Customized employment is a process for individualizing the employment relationship between a job seeker and/or employee and an employer in ways that meet the needs of both, based on an individualized negotiation (including negotiation of the responsibilities and requirements of the job) that addresses the strengths, conditions, and interests of the job seeker and/or employee, and the identified business needs of the employer. Use of customized employment strategies results in a job in a competitive, integrated setting that pays minimum wage or above.

II. Award Information

Estimated Available Funds: The full $2,350,000 for the initial 24-month period of performance will be awarded in 2007.

Period of Performance: 24 months from date of award with up to three (3) additional option years depending on performance, identified need, and the availability of future funding.

The U.S. Department of Labor (“DOL” or “Department”), Office of Disability Employment Policy (“ODEP”), announces the availability of up to $2,350,000 to fund a national technical assistance and research Cooperative Agreement.

Note: Selection of an organization as a Grantee does not constitute approval of the grant application as submitted. Before the actual grant is awarded, DOL may enter into negotiations about such items as program components, staffing (including key project staff and consultants), funding levels, and administrative systems in place to support grant implementation. If the negotiations do not result in a mutually acceptable submission, the Grant Officer reserves the right to terminate the negotiation and decline to fund the application.

Because ODEP plans to make this award in the form of a cooperative agreement, DOL will have substantial involvement in the administration of the agreement. Such DOL involvement will consist of:

(1) Approval of any sub-contract awarded by the Grantee after the grant award;

(2) Participation in site visits to project areas;

(3) Providing advice and consultation to the Grantee on specific program criteria;

(4) Providing the Grantee with technical and programmatic support, including training in DOL monitoring and evaluation systems, and standard procedures regarding DOL management of cooperative agreements;

(5) Reviewing, at reasonable times, all documents pertaining to the project, including status and technical progress reports, and financial reports. ODEP will provide the format for the reports;

(6) Discussing administrative and technical issues pertaining to the project;

(7) Approving all key personnel decisions, sub-contractors, and consultants;

(8) Approving all fact sheets, training materials, press releases, and publicity-related materials regarding the project;

(9) Approving all content for online resources developed through project activities, including clearing concepts for material production and final document production; and

(10) Drafting terms of reference for, and participating in project evaluations.

III. Eligibility Information

1. Eligible Applicants

Eligible applicants are consortia which may include a combination of any two or more of the following: Public/private non-profits or for-profit organizations (including community and faith-based organizations) and universities and colleges all with demonstrated appropriate experience in providing technical assistance, and conducting research and demonstrations in targeted goal areas defined in this solicitation for increasing employment and economic self-sufficiency for adults with disabilities. The demonstrated expertise required should include, but not be limited to:

• The work force development system, including both policy and practice, related to individuals with disabilities and others with complex barriers to employment, and the use of universal design features and strategies throughout physical and programmatic implementation of work force development services;

• The integration/partnership of work force development and other generic and disability-specific systems including leveraging and blending of funds and resources across systems, and the use of self-directed accounts providing choice and control to the individual job-seeker;

• The use of customized employment solutions for individuals with complex barriers to employment and their employers;

• The use of strategies for enhancing profitable employment and financial advantage for adults with disabilities, including but not limited to, tax incentives for individuals and business, individual development accounts, financial literacy training, and work incentives and benefits assistance available through Social Security; and

• Providing leadership development at the State and local implementation level, including building partnership and collaboration across generic and disability-specific systems and programs.

There must be a prime or lead member of the consortium who is responsible for overall grant management and serves as the fiscal agent. All applications must clearly identify the lead grant recipient and fiscal agent, as well as all other members of the consortium including consultants applying for the grant. In addition, the application must identify the relationship between all of the members of the consortium.

According to section 18 of the Lobbying Disclosure Act of 1995, an organization, as described in section 501(c)(4) of the Internal Revenue Code of 1986, that engages in lobbying activities will not be eligible for the receipt of Federal funds constituting an award, grant, or loan. See 2 U.S.C. 1611; 26 U.S.C. 501(c) (4). Funding restrictions apply. See Section IV (5).

2. Cost Sharing

Cost sharing, matching funds, and cost participation are not required under this SGA. However, leveraging of public and private resources to foster inclusive service-delivery and achieve project sustainability is highly encouraged and included under evaluation criteria. See V (1) (b) (9).

3. Other Eligibility Requirements

Legal rules pertaining to inherently religious activities by organizations that receive Federal Financial Assistance:

• Neutral, non-religious criteria that neither favor nor disfavor religion will be employed in the selection of grant recipients and must be employed by grantees or in the selection of sub-awardees.

• The government is generally prohibited from providing direct financial assistance for inherently religious activities.¹

¹ In this context, the term direct financial assistance means financial assistance that is provided directly by a government entity or an intermediate organization, as opposed to financial assistance that an organization receives as the result of the genuine and independent private choice of a beneficiary. In other contexts, the term “direct” financial assistance may be used to refer to financial assistance that an organization receives directly from the Federal Government (also known as “discretionary” assistance), as opposed to assistance that it receives from a State or local government (also known as “indirect” or “block” grant assistance). The term “direct” has the former meaning throughout this SGA.

IV. Application and Submission Information

1. Addresses To Request Application Package

This SGA contains all the information and forms needed to apply for this grant funding. Application announcements or forms will not be mailed. The Federal Register may be obtained from your nearest government office or library. In addition, a copy of this notice and the application requirements may be downloaded from ODEP's Web site at http://www.dol.gov/odep and at http://www.grants.gov. Applicants submitting proposals online are requested to refrain from mailing a hard copy application as well. It is strongly recommended that applicants using http://www.grants.gov immediately initiate and complete the “Get Started” registration steps at http://www.grants.gov/GetStarted. These steps may take multiple days to complete, and this should be factored into plans for electronic submission in order to avoid facing unexpected delays that could result in the rejection of an application. If submitting electronically through http://www.grants.gov the application must be saved as .doc, .pdf, or .txt files. If additional copies of the standard forms are needed, they can also be downloaded from: http://www.whitehouse.gov/omb/grants/grants_forms.html.

2. Content and Form of Application Submission

General Requirements: Applicants must submit one (1) paper copy with an original signature and two (2) additional paper copies of the signed proposal. To aid with the review of applications, DOL also requires applicants to submit an electronic copy of their proposal's Sections II (Executive Summary) and III (Project Narrative) on disc or compact disc (CD) using Microsoft Word. The application (not to exceed 30 pages for Section III), must be double-spaced with standard one-inch margins (top, bottom, and sides) on 8½ × 11-inch paper, and must be presented on single-sided and numbered pages. A font size of at least twelve (12) pitch is required throughout. All text in the application narrative, including titles, headings, footnotes, quotations, and captions must be double-spaced (no more than three lines per vertical inch); and, if using a proportional computer font, must be in at least a 12-point font, and must have an average character density no greater than 18 characters per inch (if using a non-proportional font or a typewriter, must not be more than 12 characters per inch). Applications that fail to meet these requirements will be considered non-responsive.

Cooperative Agreement Mandatory Application Requirements

The three required sections of the application are titled below and described thereafter:

Section I—Project Financial Plan (No page limit).

Section II—Executive Summary—Project Synopsis (Not to exceed two (2) pages).

Section III—Project Narrative (Not to exceed 30 pages).

The mandatory requirements for each section are set forth below. Applications that fail to meet the stated mandatory requirements for each section will be considered non-responsive.

Section I. Project Financial Plan (Budget): The Project Financial Plan will not count against the application page limits. Section I of the application must include the following:

(1) Completed “SF-424—Application for Federal Assistance.”

Please note that, beginning October 1, 2003, all applicants for Federal grant and funding opportunities are required to include a Dun and Bradstreet (DUNS) number with their application. See OMB Notice of Final Policy Issuance, 68 Fed. Reg. 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to the Office of Management and Budget. The Dun and Bradstreet Number of the applicant should be entered in the “Organizational Unit” section of block 8 of the SF-424. (See Appendix A of this SGA for required form.)

(2) The SF-424 must contain the original signatures of the legal entity applying for cooperative agreement funding and two additional copies of the signed SF-424. The individual signing the SF-424 on behalf of the applicant must represent and be able to legally bind the responsible financial and administrative entity for a cooperative agreement should that application result in an award. Applicants shall indicate on the SF-424 the organization's Internal Revenue Service (IRS) status (e.g. 501(c)(3) organization), if applicable.

(3) Completed SF-424A—Budget Information Form by line item for all costs required to implement the project design effectively. (See Appendix B of this SGA for required forms.)

(4) DOL Budget Narrative and Justification that provides sufficient information and methodologies used to support the reasonableness of the costs included in the budget in relation to the service strategy and planned outcomes, including continuous improvement activities.

The DOL Budget Narrative and Justification must include a detailed cost breakout of each line item on the Budget Information Sheet. Please label this page or pages the “Budget Narrative” and ensure that costs reported on the SF 424A correspond accurately with the Budget Narrative; the Budget Narrative must include, at a minimum, Personnel Costs—Applicants must provide a breakout of all personnel cost b position, title, annual salary rates, and percent of time of each position to be devoted to the proposed project; Fringe Benefits—Applicants must provide an explanation and breakout of fringe benefit rates and associated charges that exceed 35% of salaries and wages; Explanation of Costs and Methodologies—Applicants must provide an explanation of the purpose and composition of, and methodology used to derive the costs of each of the following: Personnel costs, fringe benefits, travel, equipment, supplies, contracts, and any other costs. The applicant must include costs of any required travel described in this Solicitation; describe all costs associated with implementing the project that are to be covered with cooperative agreement funds. The budget must support the travel and associated costs of sending representatives to both a post-award conference and periodic meetings with ODEP staff in Washington, D.C. (at least once per quarter), at a time and place to be determined. In addition to other administrative requirements identified in section VI(2) of this SGA, the applicant must comply with the “Uniform Administrative Requirements for Grants and Cooperative Agreements to State and Local Governments” (also known as OMB Circular A-102), codified at 29 CFR part 97, or “Grants and Agreements with Institutions of Higher Education, Hospitals, and Other Non-Profit Organizations” (also known as the “Common Rule” or OMB Circular A-110), codified at 2 CFR part 215 and 29 CFR part 95.

In addition, the budget submitted for review by DOL must include, on a separate page, a detailed cost analysis of each line item. The costs listed in the detailed cost analysis must comply with the applicable OMB cost principles circulars, as identified in 29 CFR 95.27 and 29 CFR 97.22(b). Justification for administrative costs must be provided. Approval of a budget by DOL is not the same as the approval of actual costs. The applicant must also include the Assurances and Certifications Signature Page (Appendix C) and the Survey on Ensuring Equal Opportunity for Applicants (Appendix D).

Section II. Executive Summary—Project Synopsis: The Executive Summary is limited to no more than two single-spaced, single-sided pages on 8½ × 11-inch paper with standard margins throughout. The project synopsis must identify the following:

(1) The lead entity;

(2) The list of consortium members and consultants, as appropriate; and

(3) An overview of how the applicant will carry out the technical assistance and research activities described in Section I of this solicitation.

Section III. Project Narrative: The DOL Cooperative Agreement Project Narrative is limited to no more than thirty (30), 8½ × 11″ pages, double-spaced with standard one-inch margins (top, bottom, and sides), and must be presented on single-sided, numbered pages. This page limit does not apply to Section I, the Project Financial Plan (Budget), Section II, the Executive Summary and the Appendices (the assurances and certifications, resumes, a bibliography or references, and the documentation of commitment/formal agreement/letters of support and other materials relevant to the application). A page is 8½ × 11″ (on one side only) with one-inch margins (top, bottom, and sides). All text in the application narrative, including titles, headings, footnotes, quotations, and captions must be double-spaced (no more than three lines per vertical inch); and, if using a proportional computer font, use no smaller than a 12-point font, and an average character density no greater than 18 characters per inch (if using a non-proportional font or a typewriter, do not use more than 12 characters per inch).

Applications must include a Project Narrative that addresses the work proposed to be accomplished under the Cooperative Agreement, and the evaluation/selection criteria in Part V(1) that will be used by reviewers in evaluating the application.

The successful applicant will be a Technical Assistance and Research Consortium and will describe in their Project Narrative their innovative and comprehensive plan for accomplishing the technical assistance and research activities described in Part I(1) Description and Purpose, and Part I(2) Background.

The Project Narrative must:

(1) Identify members of the consortium (including the lead entity, other consortium members, and key consultants) and provide documentation (such as letters of intent and memorandum of agreement which will be included in an Appendix) of a formal agreement of participation;

(2) Demonstrate each of the consortium members' and key consultants' relevant experience and expertise;

(3) Identify how the applicant proposes to disseminate research findings and technical assistance products; and

(4) Identify how the applicant proposes to monitor the implementation and/or adoption of technical assistance and training and otherwise provide evidence of project impact.

Each Project Narrative must include:

(1) A detailed 24-month management plan for project goals, objectives, and activities;

(2) A detailed 24-month timeline for project activities, including producing and submitting a final report;

(3) A detailed outline for an evaluation of the project (see Section V(1)(f) for more information);

(4) A description of procedures and approaches that will be used to provide ongoing communication, collaboration with, and input from ODEP's Project Officer on all grant-related activities.

(5) A detailed description of how the consortia will work with multiple Federal, State and local public and private entities to implement and monitor implementation of policy recommendations and strategies identified in carrying out project activities; and

(6) A detailed description of measures that will be taken to ensure that elements of the project's technical assistance will be sustained following the completion of project activities.

The Project Narrative must describe the proposed staffing for the project and must identify and summarize the qualifications of the personnel who will carry it out related to the objectives of this solicitation. In addition, the evaluation criteria listed in Section V (1)(c) include consideration of the qualifications, including relevant education, training, and experience, of key project personnel, as well as the qualifications, including relevant education, training and experience, of project consultants or subcontractors. Resumes must be included in the appendices. Key personnel include any individual (whether consortium member or individual consultant or contractor) playing a substantial role in the project. Minimum qualifications should be commensurate with the role identified in the application. In addition, the applicant must specify in the application the percentages of time to be dedicated by each key person on the project.

For each staff person named in the application, documentation of all internal and external time commitments shall be provided. In instances where a staff person is committed on a Federally supported project, the project name, Federal office, program title, the project Federal award number, and the amount of committed time by each project year shall be provided. This information (e.g., Staff: Jane Doe; Project Name: Succeeding in the General Curriculum; Federal office: Office of Special Education Programs; Program title: Field-Initiated Research; Award number: H324C980624; Time commitments: Year 1-30%; Year 2-25% and Year 3-40%) can be provided as an appendix to the application.

In general, ODEP will not reduce time commitments on currently funded grants from the time proposed in the original application. Therefore, ODEP will not consider for funding any application where key staff are bid above a time commitment level that staff have available to bid. Further, the time commitments stated in newly submitted applications will not be negotiated down to permit the applicant to receive a new grant award.

The Project Narrative should also describe how the applicant plans to comply with the employment discrimination and equal employment opportunity requirements of the various laws listed in the assurances section.

3. Submission Dates, Times and Addresses

Applications will be accepted commencing July 20, 2007. The closing date for receipt of applications by DOL under this announcement is August 20, 2007.

Applications, including those hand delivered, must be received by 4:45 p.m. (EST) on the closing date at the address specified below. No exceptions to the mailing and hand-delivery conditions set forth in this notice will be granted. Applications that do not meet the conditions set forth in this notice will be considered non-responsive.

Applications must be mailed or hand delivered to: U.S. Department of Labor, Procurement Services Center, Attention: Cassandra Mitchell, Reference SGA 07-05, Room S-4307, 200 Constitution Avenue, NW., Washington, DC 20210. Applications sent by e-mail or telefascimile (FAX) will not be accepted.

Hand-Delivered Proposals: Hand-delivered applications will be considered for funding, but must be received by the above specified date and time. Overnight or express delivery from carriers other than the U.S. Postal Service will be considered hand-delivered applications. It is preferred that applications be mailed at least five (5) days prior to the closing date to ensure timely receipt. Failure to adhere to the above instructions will serve as a basis for a determination of non-responsiveness.

Applicants are advised that mail in the Washington, DC area may be delayed due to mail decontamination procedures and may wish to take this information into consideration when preparing to meet the application deadline.

Late Applications: Any application received by the designated office after the exact date and time specified will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been postmarked by the 15th of that month); or (c) was sent by the U.S. Postal Service Express Mail Next Day Service to addressee not later than 5:00 p.m. at the place of mailing two (2) working days prior to the date specified for receipt of applications. The term “working days” excludes weekends and Federal holidays. “Postmarked” means a printed, stamped, or otherwise placed impression (exclusive of a postage meter machine impression) that is readily identifiable without further action as having been supplied or affixed on the date of mailing by an employee of the U.S. Postal Service.

Withdrawal of Applications: An application that is timely submitted may be withdrawn by written notice or telegram (including mailgram) at any time before an award is made. Applications may be withdrawn in person by the applicant or by an authorized representative thereof, if the representative's identity is made known and the representative signs a receipt for the proposal.

4. Intergovernmental Review

This funding opportunity is not subject to Executive Order 12372, “Intergovernmental Review of Federal Programs.”

5. Funding Restrictions

(a) Funding Levels: The total funding available for this solicitation is $2,350,000. The Department of Labor reserves the right to negotiate the amounts to be awarded under this competition. Please be advised that requests exceeding the maximum stated amount will be considered non-responsive. Additionally, there will be no reimbursement of pre-award costs.

(b) Period of Performance: The period of performance will be for 24 months from the date of the award unless modified. It is expected that the successful applicant will begin program operations under this solicitation immediately upon receiving the “Notice of Award.”

(c) Option Year Funding: Up to three (3) additional option years may be available depending on performance, identified need, and the availability of future funding.

(d) Indirect Charges: If indirect charges are claimed in the proposed budget, the recipient must provide on a separate sheet, the following information:

(1) Name and address of cognizant Federal audit agency;

(2) Name, address and phone number (including area code) of the Government auditor;

(3) Documentation from the cognizant agency indicating:

(a) Current indirect cost rate and the base against which the rate should be applied;

(b) Effective period (dates) for the rate; and

(c) Date last rate was computed and negotiated.

(4) If no government audit agency computed and authorized the rate claimed, a proposed rate with justification may be submitted providing a brief explanation of computation, who computed the rate, and the date of the computation. Successful applicants will be required to negotiate an acceptable and allowable rate within 90 days of grant award with the appropriate DOL Regional Office of Cost Determination or with the applicant's cognizant agency for indirect cost rates (See Office of Management and Budget Web site at http://www.whitehouse.gov/omb/grants/attach.html). The recipient shall call the Office of Cost Determination at 202-693-4100 for the initial contact.

However, applications claiming an indirect cost rate greater than 15% will not be considered.

V. Application Review Information

1. Evaluation Criteria

A technical panel will review grant applications against the criteria listed below, on the basis of the maximum points indicated.

(a) Significance of the Proposed Project (10 Points)

In determining the significance of the proposed research, the Department will consider the following factors:

1. The potential contribution of the proposed project to increase knowledge or understanding of problems, issues, or effective strategies for promoting leadership to increase employment and economic self-sufficiency for adults with disabilities;

2. The likelihood that the proposed project will result in systems change or improvement across generic and disability-specific systems;

3. The extent to which the proposed project is likely to build capacity to provide, improve, or expand services that address the needs of the target population as they relate to targeted goal areas in this solicitation;

4. The likely utility of the products (such as information, materials, processes, or techniques) that will result from the proposed project, including the potential for their being used effectively in a variety of other settings;

5. The importance or magnitude of the results or outcomes likely to be attained by the proposed project; and

6. The extent to which the proposed project builds upon prior work done by ODEP and its partners around increasing employment for adults with disabilities, including integration of universal strategies, customized employment, and related policies and practices within and across generic and disability-specific systems.

(b) Project Design (25 Points)

In evaluating the quality of the proposed project design, the Department will consider the following factors:

1. The extent to which the goals, objectives, and outcomes to be achieved by the proposed project are clearly specified and measurable;

2. The extent to which the design of the proposed project includes a comprehensive review of the relevant literature, a detailed plan for project implementation, and the use of appropriate methodological tools to ensure successful achievement of project objectives;

3. The extent to which the proposed project will effectively contribute to increased knowledge, understanding, and utilization of strategies in targeted goal areas by building upon current research, and effective practices;

4. The extent to which the proposed project will be coordinated with similar or related Federal technical assistance efforts, such as research, training, and information efforts;

5. The extent to which the proposed project encourages involvement of relevant experts and organizations including individuals with disabilities and generic systems' personnel;

6. The extent to which performance feedback and continuous improvement are integral to the design of the proposed project;

7. The extent to which the services to be provided by the proposed project are appropriate to the needs of the intended recipients or beneficiaries of those services;

8. The adequacy of the documentation submitted in support of the proposed project to demonstrate the commitment of each entity or individual included in project implementation;

9. The extent to which the proposed project leverages other public and private resources to foster inclusive service delivery and sustainability and provides other concrete evidence of sustainability, including appropriate letters of support included in the appendices; and

10. The extent to which the design of the proposed project includes a comprehensive strategy for providing technical assistance and conducting research to effectively integrate universal design and services, customized employment and flexible work options, and use of tax incentives, work incentives, and other strategies for enhancing employment profitability into the policy and practice of public and private workforce systems (and their public and private partners) nationally.

(c) Organizational Capacity and Quality of Key Personnel (25 points)

Applications will be evaluated based on the extent to which the applicant demonstrates organizational capacity and quality of key personnel to implement the proposed project, including:

1. Demonstrated experience with similar projects providing technical assistance and conducting research relating to targeted goal areas;

2. Qualifications and demonstrated experience of the applicant's key personnel, subcontractors and consultants particularly in targeted goal areas; and

3. Appropriateness of the organization's structure to carry out the project.

(d) Budget and Resource Capacity (10 Points)

In evaluating the capacity of the applicant to carry out the proposed project, ODEP will consider the following factors:

1. The extent to which the budget is adequate to support the proposed project; and

2. The extent to which the anticipated costs are reasonable in relation to the objectives, design, and potential significance of the proposed project.

(e) Quality of the Management Plan (15 Points)

In evaluating the quality of the management plan for the proposed project, ODEP will consider the following factors:

1. The extent to which the management plan for project implementation appears likely to achieve the objectives of the proposed project on time and within budget, and includes clearly defined staff responsibilities, time allocation to project activities, time lines, milestones for accomplishing project tasks, project deliverables, and information on adequacy of other resources necessary for project implementation;

2. The extent to which the management plan appears likely to result in sustainable activities beyond the period of direct Federal investment;

3. The adequacy of mechanisms for ensuring high-quality products and services relating to the scope of work for the proposed project; and

4. The extent to which the time commitments of the project director and/or principal investigator and other key project personnel and/or subcontractors and consultants are appropriate and adequate to meet the objectives of the proposed project.

(f) Quality of the Project Evaluation (15 Points)

In evaluating the quality of the project's evaluation design, including the data to be generated through implementation of project activities, ODEP will consider the following factors:

1. The extent to which the methods of evaluation are thorough, feasible, and appropriate to the goals, objectives, context, and outcomes of the proposed project;

2. The extent to which the design of the evaluation includes the use of objective performance measures and methods that will systematically document the project's intended outputs and outcomes and will produce measurable quantitative and qualitative data;

3. The extent to which the evaluation will provide Federal, State and local government entities with useful information about transition and systems change models suitable for replication or testing in other settings; and

4. The extent to which the methods of evaluation provide measures that will inform ODEP's annual performance goals and measures and ODEP's long-term strategic goals.

2. Review and Selection Process

A technical review panel will objectively rate each complete application against the criteria described in this SGA. The panel recommendations to the Grant Officer, including any point scores, are advisory in nature. The Grant Officer may elect to award grants either with or without discussion with the applicant. In situations where no discussion occurs, an award will be based on the signed SF-424 form (see Appendix A), which constitutes a binding offer.

The Grant Officer may consider the availability of funds and any information that is available and will make final award decisions based on what is most advantageous to the government, considering factors such as the advisory recommendations from the grant technical evaluation panel and the geographic distribution of Federally funded grants.

3. Anticipated Announcement and Award Dates

Announcement of this award is expected to occur within 30 days of award. The Cooperative Agreement will be awarded by no later than September 28, 2007.

VI. Award Administration Information

1. Award Notices

The Notice of Award signed by the Grant Officer is the authorizing document and will be provided through postal mail and/or by electronic means to the authorized representative listed on the SF-424 Grant Application. Notice that an organization has been selected as a grant recipient does not constitute final approval of the grant application as submitted. Before the actual grant award, the Grant Officer and/or the Grant Officer's Technical Representative may enter into negotiations concerning such items as program components, funding levels, and administrative systems. If the negotiations do not result in an acceptable submittal, the Grant Officer reserves the right to terminate the negotiation and decline to fund the proposal.

2. Administrative and National Policy Requirements

All grantees, including faith-based organizations, will be subject to applicable Federal laws (including provisions of appropriations law), regulations, and the applicable Office of Management and Budget (OMB) Circulars. The grant awarded under this SGA will be subject to the following administrative standards and provisions and requirements applicable to particular entities. The applicant must include assurances and certifications that it will comply with these laws in its grant application. The assurances and certifications are attached as Appendix C.

a. Regulations

29 CFR Parts 31 and 32—Nondiscrimination in Federally Assisted Programs of the Department of Labor (respectively, effectuation of Title VI of Civil Rights Act of 1964, and on the Basis of Handicap in Programs and Activities Receiving or Benefiting from Federal Financial Assistance).

29 CFR Part 35—Nondiscrimination on the Basis of Age in Programs or Activities receiving Federal Financial Assistance from the Department of Labor.

29 CFR Part 36—Nondiscrimination on the Basis of Sex in Education Programs or Activities Receiving Federal Financial Assistance.

29 CFR Part 37—Implementation of the Nondiscrimination and Equal Opportunity Provisions in the Workforce Investment Act of 1998.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 97—Uniform Administrative Regulations for Grants to States, Local Governments or Tribes.

29 CFR Part 98—Federal Standards for Government wide Debarment and Suspension (Nonprocurement) and Government wide Requirements for Drug-Free Workplace (Grants).

29 CFR Part 99—Federal Standards for Audits of States, Local Governments, and Non-Profit Organizations.

29 CFR Part 2—General Participation in Department of Labor Programs by Faith-Based and Community Organizations; Equal Treatment of All Department of Labor Program Participants and Beneficiaries.

Applicable cost principles under OMB Circulars A-21, A-87, A-122, or 48 CFR part 31.

b. Travel

Any travel undertaken in performance of this cooperative agreement shall be subject to and in strict accordance with Federal travel regulations.

c. Acknowledgement of DOL Funding

Printed Materials: In all circumstances, the following shall be displayed on printed materials prepared by the Grantee while in receipt of DOL/ODEP grant funding: “Preparation of this item was funded by the United States Department of Labor through its ODEP Grant No. [insert the appropriate Grant number].”

All printed materials must also include the following notice: “This document does not necessarily reflect the views or policies of the U.S. Department of Labor, nor does mention of trade names, commercial products, or organizations imply endorsement by the U.S. Government.”

Public reference to grant: When issuing statements, press releases, requests for proposals, bid solicitations, and other documents describing projects or programs funded in whole or in part with Federal money, all grantees receiving Federal funds must clearly state:

• The percentage of the total costs of the program or project, which will be financed with Federal money;

• The dollar amount of Federal financial assistance for the project or program; and

• The percentage and dollar amount of the total costs of the project or program that will be financed by non-governmental sources.

Use of DOL and ODEP Logo: In consultation with DOL/ODEP, the Grantee must acknowledge DOL's role as described. The DOL and/or ODEP logo may be applied to DOL-funded material prepared for world-wide distribution, including posters, videos, pamphlets, research documents, national survey results, impact evaluations, best practice reports, and other publications of global interest. The Grantee must consult with ODEP on whether the logo may be used on any such items prior to final draft or final preparation for distribution. In no event shall the DOL and/or ODEP logo be placed on any item until ODEP has given the grantee written permission to use the logo on the item.

All documents must include the following notice: “This document does not necessarily reflect the views or policies of the U.S. Department of Labor, nor does mention of trade names, commercial products, or organizations imply endorsement by the U.S. Government.”

d. Intellectual Property

Please be advised that DOL/ODEP will reserve a royalty-free, nonexclusive, and irrevocable license to reproduce, publish, distribute, publicly display and perform, create derivative works from, and to authorize others to use, for Federal Government purposes:

(a) Any work developed under a grant, subgrant, or contract under a grant or subgrant; and

(b) Any rights to which a grantee, subgrantee or a contractor purchases ownership with grant support.

In addition, the Grantee will agree to notify DOL/ODEP of any pre-existing copyrighted materials it intends to incorporate into materials developed under the grant, and, prior to such incorporation, the grantee will agree that it will acquire, on behalf of DOL/ODEP, any necessary licenses to allow DOL/ODEP to exercise the rights described in the paragraph above.

e. Approval of Key Personnel and Subcontractors

The recipient shall notify the Grant Officer (through the Grant Officer Technical Representative) at least 14 calendar days in advance if any key personnel are to be removed or diverted from the cooperative agreement, shall supply written justification as part of this notice as to why these persons are to be removed or diverted, shall provide the names(s) of the proposed substitute or replacement, and shall include information on each new individual's qualifications such as education and work experience.

f. Paperwork Reduction Act Information

OMB Information Collection No. 1205-0458, Expires September 30, 2009. According to the Paperwork Reduction Act of 1995, no persons are required to respond to a collection of information unless such collection displays a valid OMB control number. Public reporting burden for this collection of information is estimated to average 20 hours per response, including time for reviewing instructions, searching existing date sources, gathering and maintaining data needed, and completing and reviewing the collection of information. Send comments regarding the burden estimated or any other aspect of this collection of information, including suggestions for reducing this burden, to the U.S. Department of Labor, to the attention of Cassandra Mitchell, 200 Constitution Avenue, NW., Room S-4307, Washington, DC 20210.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's applicant is not considered to be confidential.

VII. Reporting and Monitoring

ODEP is responsible for ensuring effective implementation of this Cooperative Agreement, in accordance with the provisions of this announcement and the terms of the Cooperative Agreement award document. Applicants should assume that ODEP staff will conduct on-site project reviews periodically. Reviews will focus on timely project implementation, performance in meeting the Cooperative Agreement's objectives, tasks and responsibilities, expenditures of Cooperative Agreement funds on allowable activities, and administration of project activities. Projects may be subject to other additional reviews, at the discretion of ODEP.

The selected applicant must submit on a quarterly basis, beginning ninety (90) days from the award of the grant, financial and activity reports under this program as prescribed by OMB Circular A-110, codified at 2 CFR part 215 and 29 CFR part 95. Specifically the following reports will be required:

1. Quarterly report: The quarterly report is estimated to take five (5) hours to complete. The form for the quarterly report will be provided by ODEP. The Department will work with the Grantee to help refine the requirements of the report, which, among other things, will include measures of ongoing analysis for continuous improvement. This report will be filed using a system specified by ODEP. The form will be submitted within thirty (30) days of the close of the quarter. The quarterly progress report will include narrative description and will provide:

a. In-depth information on accomplishments, including project success stories, upcoming activities and promising approaches and processes;

b. Progress toward performance outcomes, including updates on products, activities and emerging promising practices in areas targeted by this Cooperative Agreement.

In addition, the selected applicant must submit every 6 months an Executive Summary report of project activities and outcomes to date. The report must detail the various aspects of project activities and accomplishments in a form and format provided by the Department.

2. Standard Form 269, Financial Status Report Form: This form is to be completed and submitted on a quarterly basis using the Department of Labor's E-Grants Reporting System unless ODEP provides different instructions.

3. Final Project Report: The Final Project Report is to include an assessment of project performance and outcomes achieved. It is estimated that this report will take twenty (20) hours to complete. This report will be submitted in hard copy and on electronic disk using a format and following instructions, to be provided by ODEP. A draft of the final report is due to ODEP sixty (60) days before the end of the period of performance of the cooperative agreement. The final report is due to ODEP and the DOL Grants Office ten (10) days before the end of the period of performance of the Cooperative Agreement.

The Department will arrange for an evaluation of the outcomes, impacts, accomplishments, and benefits of each funded project. The Grantee must agree to cooperate with this evaluation and must make available records on all parts of project activity, including available data on service-delivery models being studied and provide access to personnel, as specified by the evaluator(s), under the direction of ODEP. This evaluation is separate from the ongoing evaluation for continuous improvement required of the grantee for project implementation.

Technical assistance efforts will be coordinated with other technical assistance efforts implemented by ODEP, including, if applicable, the National Center on Workforce and Disability for Adults (NCWD/A) and the national Self-Employment Technical Assistance, Resources, and Training Center (START-UP USA). The grantee must also agree to work with ODEP in its various technical assistance efforts in order to freely share with others what is learned about building systems capacity and leadership across generic and disability-specific systems and linking asset development and employment activities. The Grantee must agree to collaborate with other research institutes, centers, studies, and evaluations that are supported by the DOL and other relevant Federal agencies, as appropriate. Finally, the Grantee must agree to actively utilize as appropriate the programs sponsored by the ODEP, including the Job Accommodation Network (http://www.jan.wvu.edu), and the Employer Assistance and Recruiting Network (http://www.earnworks.com).

The successful applicant will be required to prepare a strategic plan for achieving the goals of the Cooperative Agreement for the initial 24-month period of performance and submit it to ODEP for approval within 45 days of award for approval.

VIII. Agency Contacts

Any questions regarding this SGA should be directed to Cassandra Mitchell, e-mail address: mitchell.cassandra@dol.gov, tel: 202-693-4570 (note that this is NOT a toll-free number). To obtain further information about the Office of Disability Employment Policy of the U.S. Department of Labor, visit the DOL Web site of the Office of Disability Employment Policy at http://www.dol.gov/odep.

IX. Appendices

The appendices are as follows:

Appendix A. Application for Federal Assistance, Form SF-424.

Appendix B. Budget Information Sheet, Form SF-424A.

Appendix C. Assurances and Certifications Signature Page.

(Appendices D and E are not applicable).

Appendix F. Survey on Ensuring Equal Opportunity for Applicants.

Detailed information and document locations:

• Appendix A. Application for Federal Assistance, Form SF-424 (OMB No. 4040-0004).

• Appendix B. Budget Information Sheet, Form SF-424A (OMB No. 0348-0044). Both forms SF-424 and 424A can be obtained at the following Web address: http://apply.grants.gov/agency/FormLinks?family=7.

• Appendix F. Survey on Ensuring Equal Opportunity for Applicants (OMB No. 1890-0014).

• The Survey on Ensuring Equal Opportunity for Applicants form can be obtained at the following Web address: http://www.ed.gov/fund/grant/apply/appforms/surveyeo.pdf. (If this link is viewed in an electronic format and the user receives a “page not found” message, it is recommended that the user cut and paste the URL into his/her browser window.)

Appendix C. Assurances and Certifications Signature Page

Certifications and Assurances

Assurances and Certifications Signature Page

The Department of Labor will not award a grant or agreement where the grantee/recipient has failed to accept the assurances and certifications contained in this section. By signing and returning this signature page, the grantee/recipient is providing the certifications set forth below:

A. Certification Regarding Lobbying, Debarment, Suspension, Other Responsibility Matters—Primary Covered Transactions and Certifications Regarding Drug-Free/Tobacco-Free Workplace.

B. Certification of Release of Information.

C. Assurances—Non-Construction Programs.

D. Applicant is not a 501(c)(4) organization.

Applicant Name and Legal Address:

If there is any reason why one of the assurances or certifications listed cannot be signed, the applicant shall provide an explanation. Applicant need only submit and return this signature page with the grant application. All other instruction shall be kept on file by the applicant.

Signature of Authorized Certifying Official

Title

Applicant Organization

Date Submitted

Please Note: This signature page and any pertinent attachments which may be required by these assurances and certifications shall be attached to the applicant's cost proposal.

Signed at Washington, DC, this 17th day of July, 2007.
Cassandra Mitchell,
Grant Officer.

[FR Doc. E7-14074 Filed 7-19-07; 8:45 am]

BILLING CODE 4510-FK-P